FEDERAL COMMUNICATIONS COMMISSION

47 CFR Parts 74 and 76

[MB Docket Nos. 19-165, 17-105; FCC 19-68]

Electronic Delivery of Notices to Broadcast Television Stations; Modernization of Media Regulation Initiative

AGENCY: Federal Communications Commission.

ACTION: Proposed rule.

SUMMARY: In this document, the Federal Communications Commission (FCC or Commission) proposes to require that cable operators use email to deliver certain written notices to broadcast television stations. The proposal would require cable operators to email the notices to a designated inbox in the station's online public inspection file (OPIF). The FCC seeks comment on whether satellite TV providers should similarly be required to use email to deliver certain written notices to broadcast TV stations. In addition, the FCC also seeks comment on whether and how the proposal to require electronic delivery of notices can be applied to certain low power TV and noncommercial translator stations that are not required to maintain an OPIF.

DATES: Comments are due on or before September 4, 2019, and reply comments are due on or before September 19, 2019.

ADDRESSES: You may submit comments, identified by MB Docket Nos. 19-165 and 17-105, by any of the following methods:

• Federal Communications Commission's website: http://www.fcc.gov/cgb/ecfs/. Follow the instructions for submitting comments.

• People with Disabilities: Contact the FCC to request reasonable accommodations (accessible format documents, sign language interpreters, CART, etc.) by email: FCC504@fcc.gov or phone: 202-418-0530 or TTY: 202-418-0432.

For detailed instructions for submitting comments and additional information on the rulemaking process, see the SUPPLEMENTARY INFORMATION section of this document.

FOR FURTHER INFORMATION CONTACT: For additional information on this proceeding, contact Christopher Clark of the Industry Analysis Division, Media Bureau at Christopher.Clark@fcc.gov, or (202) 418-2609.

SUPPLEMENTARY INFORMATION: This is a summary of the Commission's Notice of Proposed Rulemaking (NPRM), FCC 19-68, adopted and released on July 10, 2019. The full text of this document is available electronically via the FCC's Electronic Document Management System (EDOCS) website at https://www.fcc.gov/document/fcc-proposes-updates-cable-satellite-tv-provider-notifications-0. Documents will be available electronically in ASCII, Microsoft Word, and/or Adobe Acrobat. This document is also available for public inspection and copying during regular business hours in the FCC Reference Information Center, Federal Communications Commission, 445 12th Street SW, CY-A257, Washington, DC 20554. Alternative formats are available for people with disabilities (Braille, large print, electronic files, audio format) by sending an email to fcc504@fcc.gov or calling the Commission's Consumer and Governmental Affairs Bureau at (202) 418-0530 (voice), (202) 418-0432 (TTY).

Synopsis

1. In this Notice of Proposed Rulemaking (NPRM), we propose to take additional steps to modernize the notification requirements in part 76 of our rules governing cable television and other multichannel video programming services. Currently, the written notification requirements for cable operators are set forth in section 76.64(k) and subpart T of the Commission's rules, and the written notification requirements for direct broadcast satellite (DBS) providers are contained in sections 76.54(e) and 76.66 of the Commission's rules. These rules direct cable operators and DBS providers, respectively, to give written notice to a local broadcast television station prior to deleting or repositioning the station, changing the location of the principal headend or local receive facility, or commencing service in a market, among other things. In addition to the required notices to broadcast television stations, the rules in subpart T also require that cable operators deliver written notices to their subscribers in certain circumstances.

2. In December 2017, in response to proposals in the Modernization of Media Regulation Initiative proceeding calling for the modernization of these various notice requirements, the Commission released the Subscriber and Carriage Election Notices NPRM, MB Docket Nos. 17-317 and 17-105, FCC 17-168, which proposed to allow electronic delivery of subpart T and privacy notices to subscribers if sent to a verified email address and subject to certain safeguards. In addition, the Subscriber and Carriage Election Notices NPRM sought comment on how to update the requirement in sections 76.64(h) and 76.66(d) of the Commission's rules that local broadcast stations electing carriage on a cable system send such written election notices by certified mail. The Commission subsequently adopted the proposals pertaining to electronic delivery of notices to subscribers and stated that the issue of carriage election notices made by broadcast television stations would be addressed in a future order. In September 2018, the American Cable Association (ACA), National Association of Broadcasters (NAB), and NCTA—The internet and Television Association (NCTA) met with Commission staff to discuss a proposal that contemplated requiring carriage election notices to be delivered via email. NAB and NCTA subsequently proposed that the Commission add a new field to both the online public inspection file (OPIF) and the Cable Operations and Licensing System (COALs) in order for commercial broadcast television stations and cable operators to provide carriage election contact information, including an email address and phone number.

3. In a separate filing submitted in the carriage election notices modernization proceeding on October 16, 2018, ACA proposed that the Commission take “comparable steps” with respect to the notices required by section 76.64(k) and subpart T if the Commission allows carriage election notices to be delivered by means other than certified mail. Specifically, ACA contended that cable operators be permitted to provide the following types of notices to broadcast stations electronically:

• Intent to commence service (47 CFR 76.64(k)): Requires that a cable system commencing new operation notify all local commercial and noncommercial broadcast stations of its intent to commence service. The cable operator must send such notification, by certified mail, at least 60 days prior to commencing cable service.

• Activation of a cable system (47 CFR 76.1617): Requires that within 60 days of activation of a cable system, a cable operator must notify all qualified noncommercial educational (NCE) stations of the location of its designated principal headend by certified mail; notify all local commercial and NCE stations that may not be entitled to carriage because they either fail to meet the standards for delivery of a good quality signal to the cable system's principal headend or may cause increased copyright liability to the cable system; and send by certified mail a copy of a list of all broadcast television stations carried by the cable system and their channel positions to all local commercial and noncommercial television stations, including those not designated as must-carry stations and those not carried on the system.

• Deletion or repositioning of broadcast signals (47 CFR 76.1601): Requires that a cable operator provide written notice to any broadcast television station at least 30 days prior to either deleting from carriage or repositioning that station.

• Principal headend (47 CFR 76.1607): Requires that a cable operator provide written notice by certified mail to all stations carried on its system pursuant to the must-carry rules at least 60 days prior to any change in the designation of the location of the principal headend.

• System technical integration requiring uniform election of must-carry or retransmission consent status (47 CFR 76.1608): Requires a cable system that changes its technical configuration in such a way as to integrate two formerly separate cable systems to give 90 days' notice of its intention to do so to any television broadcast stations that have elected must carry with respect to one system and retransmission consent status with respect to the other.

• Non-duplication and syndicated exclusivity (47 CFR 76.1609): Requires that within 60 days following the provision of service to 1,000 subscribers, the operator of each such system must file a notice to that effect with the Commission, and serve a copy of that notice on every television station that would be entitled to exercise network non-duplication protection or syndicated exclusivity protection against it.

4. As discussed further below, we propose to revise our rules to require that cable operators deliver electronically to broadcast television stations the written notices required by section 76.64(k) and subpart T of our rules via email to an email address designated by the station in its OPIF. We believe that modernizing our rules to require electronic delivery of certain written notices in this manner is consistent with how companies do business in the marketplace and will result in quicker, more effective communication of necessary information.

5. Specifically, we propose that written notices from cable operators would be required to be delivered electronically to television stations in all the circumstances cited by ACA above: Informing local broadcast stations that a new cable system intends to commence service (section 76.64(k)); sending required information to local broadcast stations when a new cable system is activated (section 76.1617); notifying a television station about the deletion or repositioning of its signal (section 76.1601); informing stations of a change in the designation of the principal headend of a cable operator (section 76.1607); informing stations that a cable operator intends to integrate two cable systems, requiring a uniform carriage election (section 76.1608); and notifying stations that a cable system serves 1,000 or more subscribers and is no longer exempt from the Commission's network non-duplication and syndicated exclusivity rules (section 76.1609). Consistent with the Commission's decision in a companion order adopted today to require electronic delivery of carriage election notices, we tentatively conclude that our rules should also require that the notices described above to television stations be delivered to the email address designated by the television station in the OPIF.

6. We tentatively conclude that requiring cable operators to deliver such notices to broadcast television stations via email would serve the public interest. As discussed above, the Commission has already decided in a companion order adopted today to require that carriage election notices from television stations be delivered to MVPDs electronically via email. Similarly, the Commission allows cable operators to use email to deliver subpart T and privacy notices to subscribers if the cable operator complies with certain consumer safeguards, including the use of a verified email address for each subscriber. The Commission found that the benefits of permitting email delivery of subscriber notices include increased efficiency and the positive environmental aspects of saving substantial amounts of paper annually, among other things. We tentatively conclude that similar policy considerations also favor the use of electronic delivery for notices from cable operators to broadcast television stations, such as decreasing the amount of paper used, reducing burdens on cable operators, and enabling television broadcasters and cable operators to more easily track the information they need to fulfill their obligations under the Commission's rules. We seek comment on our tentative conclusion that the public interest would be served by our proposal to require electronic delivery of notices mandated by section 76.64(k) and the rules in subpart T listed above. Alternatively, is there any reason why a cable operator should retain the option to deliver such notices to broadcast television stations in a non-electronic format, such as via certified mail?

7. We tentatively conclude that the Commission has authority under the Communications Act of 1934, as amended (the Act), to require the section 76.64(k) and subpart T notices from cable operators to broadcast stations to be delivered electronically via email. Pursuant to sections 4 and 303 of the Act, the Commission may exercise broad authority to adopt rules and regulations as necessary to execute its functions and carry out the provisions of the Act. In addition, section 614 of the Act provides the Commission with broad authority to issue regulations, including the notification requirements in section 76.64(k) and subpart T of our rules, implementing the must-carry requirements prescribed by the Act. While sections 614(b)(9) and 615(g)(3) of the Act require that “written notice” be provided before repositioning or deleting a local television station on the cable system, we tentatively conclude that electronic delivery of the notices via email satisfies this “written notice” requirement. As the Commission has found previously, emails, by their very nature, convey information in writing. We seek comment on these tentative conclusions.

8. To ensure that television stations continue to receive notices from cable operators as required by section 76.64(k) and subpart T, we tentatively conclude that after July 31, 2020, a cable operator should be required to distribute such notices to television stations electronically via email to an email address designated by the station. In the Carriage Election Notice Modernization Order and FNPRM, MB Docket Nos. 17-317 and 17-105, FCC 19-69, the Commission adopted new rules requiring that all broadcast stations subject to the rules must maintain in the OPIF an up-to-date email address and phone number for carriage-related questions by July 31, 2020. Similarly, with respect to the written notices that cable operators are required to provide to television stations pursuant to section 76.64(k) and subpart T, we propose to require that after July 31, 2020, all such notices must be delivered electronically to the carriage election email address designated by the station in the OPIF. We tentatively conclude that requiring the use of a designated email address that the station posts to the OPIF will help ensure that cable operators are easily able to identify the correct email address for delivering notices electronically to commercial and noncommercial full-power and Class A television stations and that such contact information is current. Stations are expected to update the OPIF in a timely fashion and to maintain an orderly OPIF. We seek comment on these tentative conclusions.

9. In some circumstances, a cable operator may be required to provide section 76.64(k) and subpart T notices to low power television (LPTV) stations that are not Class A stations or to certain NCE translator stations, neither of which are subject to the OPIF rules. Because these stations would need to use alternative means to publicize a designated email address for receiving notices electronically, we seek comment below on how our proposal to require electronic delivery of notices can be best applied to LPTV stations that are not Class A stations and to qualified NCE translator stations, to the extent they are entitled to receive the notices prescribed by section 76.64(k) and subpart T of our rules. The extent to which an LPTV station is entitled to receive notices pursuant to section 76.64(k) and subpart T of our rules depends on whether the station is a “qualified” LPTV station as defined in section 614 of the Act and section 76.55(d) of our rules. A qualified LPTV station can be either a Class A television station or a non-Class A LPTV station under section 614 of the Act. To be “qualified,” an LPTV station must satisfy certain criteria. Unlike qualified LPTV stations, non-qualified LPTV stations do not have the option to elect must-carry status; however, like other broadcast stations, non-qualified LPTV stations are eligible to negotiate carriage pursuant to retransmission consent agreements. The Commission has previously concluded that qualified LPTV stations are entitled to receive notice from a cable operator at least 30 days before the operator deletes or repositions the station, in accordance with section 76.1601 of our rules. To the extent that non-qualified LPTV stations are carried on a cable system pursuant to retransmission consent, however, such stations are also entitled to receive notices of deletion or repositioning pursuant to section 76.1601. Similarly, qualified LPTV stations that elect must-carry are entitled to receive the notices required by sections 76.64(k), 76.1607, and 76.1617(b). In contrast, LPTV stations are not entitled to receive non-duplication and syndicated exclusivity notices under section 76.1609, because our rules do not entitle these stations to exercise network non-duplication or syndicated exclusivity protection. Similarly, LPTV stations are not entitled to receive notices under sections 76.1608 and 76.1617(c), because these rules require notice only to “television broadcast stations” or “television stations,” which, as defined in section 76.5(b) of our rules, excludes LPTV stations. Finally, with respect to section 76.1617(a), which requires notices only to “qualified NCE stations,” LPTV stations are entitled to such notices only to the extent they meet the definition of qualified NCE television station set forth in section 76.55(a) of our rules.

10. Because Class A stations, like full-power television stations, are subject to the OPIF rules, including the requirement to provide carriage election contact information in the OPIF, our proposal would require the use of the designated carriage election email address for electronic delivery of section 76.64(k) and subpart T notices to Class A stations. We seek comment on whether and how our proposal to require electronic delivery of section 76.64(k) and subpart T notices can be applied with respect to LPTV stations that are not Class A stations and to translator stations that meet the definition of a “qualified NCE television station” under section 615(l)(1) of the Act (qualified NCE translator stations). Unlike full-power and Class A television stations, non-Class A LPTV stations and qualified NCE translator stations are not subject to our OPIF rules. Accordingly, LPTV stations without Class A status and qualified NCE translator stations may need to use an alternative means to publicize a designated email address for receiving section 76.64(k) and subpart T notices if the notices are to be delivered to them electronically after July 31, 2020.¹ One potential approach, as discussed in the Carriage Election Notice Modernization Order and FNPRM, is to require that LPTV stations and qualified NCE translator stations post any required public-facing information on the first page of a company website. We seek comment on this approach and whether we should adopt a rule requiring that on or before July 31, 2020, LPTV stations and qualified NCE translator stations that are entitled to receive section 76.64(k) and subpart T notices must designate an email address for receiving such notices electronically. This proposed timeframe is consistent with the timeframe in which commercial and noncommercial full-power television stations must add their carriage election contact information to the OPIF. Is it reasonable to expect that all LPTV stations and qualified NCE translator stations will have an existing public-facing company website, i.e., one that is easily accessible for free by the general public, on which they could publicize a designated email address for receiving the notices required by section 76.64(k) and subpart T? Would this approach ensure that cable operators are able to easily identify the designated email address for delivering the required notices to such stations? Are there other alternatives that would provide similar access to this information at minimal cost and with minimal burden? For instance, to the extent that qualified NCE translator stations are co-owned with the primary station, should we simply require that section 76.64(k) and subpart T notices to these stations be delivered electronically to the carriage-election email address designated by the primary station in its OPIF, rather than requiring that such translator stations post a designated email address on the company website? We seek comment on these issues.

¹ For purposes of this paragraph, our focus is on those LPTV stations without Class A status.

11. We seek comment on the specific benefits that would accrue from our proposals and whether they would pose any burdens on cable operators and broadcast television stations. Would our proposed approach reduce the time and money spent on delivering and/or receiving the required written notices while ensuring that stations continue to receive them in a timely manner? Are there any circumstances in which a television station, or subset of television stations such as LPTV stations or qualified NCE translator stations, should be allowed to opt out of electronic delivery and continue receiving the notices via certified mail or in a non-electronic format? Are there other alternative means of delivering these notices that would better serve the needs of broadcasters and cable operators but still be less burdensome? How would such approaches work in practice? We seek comment on these issues.

12. New section 76.1600 of the Commission's rules was adopted by the Commission in the Subscriber Notices Order and FNPRM, MB Docket Nos. 17-317 and 17-105, FCC 18-166, and the rule allows MVPDs to deliver subscriber privacy notifications and other written information electronically to subscribers and customers via email so long as the MVPD complies with certain consumer safeguards. We propose to add to section 76.1600 a new subsection requiring that the written information provided by cable operators to broadcast television stations under section 76.64(k) and subpart T must be delivered to the station electronically via email to the email address designated by the station in the OPIF. As discussed above, we seek comment on whether non-Class A LPTV stations and qualified NCE translator stations should be required to post an email address on the first page of their websites. To avoid potential discrepancies with our proposed revision to section 76.1600, we also propose minor amendments to sections 76.64(k), 76.1607, 76.1609, and 76.1617 of our rules. Currently, sections 76.64(k), 76.1607, and 76.1617 each require that certain written information be provided to broadcast stations “by certified mail.” Similarly, section 76.1609 currently requires that certain notices be mailed to television stations or delivered to stations by hand.² We propose to add language to sections 76.64(k), 76.1607, 76.1609, and 76.1617 to reflect our proposal that cable operators be required to deliver the notices electronically to broadcast television stations via email in accordance with our proposed revision to section 76.1600. Finally, we also propose to make a minor correction to our rules in part 74 by moving our existing channel sharing rule for LPTV and TV translator stations from subpart H (Low Power Auxiliary Stations) to subpart G (Low Power TV, TV Translator, and TV Booster Stations). Our channel sharing rule for LPTV and TV translator stations is set forth in section 74.799. Because the rules in subpart G apply to LPTV stations, TV translator stations, and TV booster stations, subpart G is a more appropriate location for section 74.799 than subpart H, which contains rules for low power auxiliary stations that transmit over distances of approximately 100 meters for uses such as wireless microphones, cue and control communications, and synchronization of TV camera signals. We seek comment on the proposed rule amendments discussed above and any other rule changes that are necessary to implement the proposals discussed herein.

² In addition to serving copies of the notice on the relevant television stations, the cable operator must also file the original copy of the notice with the Commission within 60 days following the provision of service to 1,000 subscribers. We are not proposing to change this aspect of the rule, which, unlike the requirements discussed above, does not require notices from cable operators to broadcast stations.

13. Sections 76.54(e) and 76.66 of our rules contain notification requirements for DBS providers that are similar to the notification requirements for cable operators discussed above. These written notices from DBS providers must be delivered to television stations in the following circumstances: Notifying all televisions stations in a market prior to retransmitting a significantly viewed station into that market (section 76.54(e)); notifying local television stations of the provider's intent to launch new local-into-local service in the local market (section 76.66(d)(2)(i) through (ii)); notifying local television stations of the provider's intent to launch HD carry-one, carry-all in the local market (section 76.66(d)(2)(vi)); informing each local television station of the provider's intent to fulfil or deny the station's carriage request and the reasons for declining (section 76.66(d)(1)(iv), (d)(2)(v), (d)(3)(iv)); identifying each affiliate of the same television network that the DBS provider reserves the right to retransmit into a station's local market during the next carriage election cycle (section 76.66(d)(5)(i)); informing local television stations of the location of the DBS provider's local receive facility or its intent to relocate such facility (section 76.66(f)(3) through (4)); notifying local television stations when deleting a station that substantially duplicates another or adding a station that no longer duplicates another (section 76.66(h)(5)). We seek comment on whether the Commission should also require that DBS providers deliver such notices to broadcast television stations electronically after July 31, 2020, if the Commission adopts such a requirement for cable operators. The Satellite Home Viewer Extension and Reauthorization Act of 2004 added section 338(h)(2) of the Act and directed the Commission to revise its rules requiring that DBS providers notify local television stations prior to launching local-into-local service in a market. Section 338(h)(2)(C) of the Act states that “[s]uch regulations shall require that each satellite carrier shall transmit the notices required by such regulation via certified mail to the address for such television station licensee listed in the consolidated database system maintained by the Commission.” We seek comment on whether the statute creates an ongoing obligation for the Commission to maintain this certified mail notice requirement by regulation, or whether, once having revised our rules to satisfy section 338(h)(2)(A), we have the ability to change our notification rules pursuant to the standard notice-and-comment rulemaking process. Does section 338(h)(2) of the Act currently limit the Commission's authority to require electronic delivery of the notices that DBS providers must send to local television stations prior to launching local-into-local service in the local market? Are all the DBS notice rules subject to the restriction in section 338(h)(2), or are there some that fall outside that provision? What are the specific benefits and burdens of electronic delivery of the notices required by sections 76.54(e) and 76.66 for both broadcasters and DBS providers? If the Commission decides to require that certain such notices be delivered via email, how should the Commission revise sections 76.54(e) and 76.66 to implement such a requirement? We seek comment on these issues.

14. Initial Regulatory Flexibility Analysis. As required by the Regulatory Flexibility Act of 1980, as amended (RFA), the Commission has prepared this present Initial Regulatory Flexibility Analysis (IRFA) concerning the possible significant economic impact on small entities by the policies and rules proposed in the Notice of Proposed Rulemaking (NPRM). Written public comments are requested on this IRFA. Comments must be identified as responses to the IRFA and must be filed by the deadlines for comments provided on the first page of the NPRM. The Commission will send a copy of the NPRM, including this IRFA, to the Chief Counsel for Advocacy of the Small Business Administration (SBA). In summary, the NPRM proposes to revise the Commission's rules to require that cable operators distribute certain notices required by section 76.64(k) and subpart T of the Commission's rules to broadcast television stations electronically via email to the email address designated by the station as carriage election contact information in the online public file (OPIF). The NPRM seeks comment on whether and how the proposal to require electronic delivery of the section 76.64(k) and subpart T notices can be applied with respect to LPTV stations without Class A status and to translator stations that meet the definition of a “qualified NCE television station” under section 615(l)(1) of the Communications Act. In addition, the NPRM also seeks comment on whether to similarly require electronic delivery of certain notices that direct broadcast satellite (DBS) providers are required to send to broadcast television stations under sections 76.54(e) and 76.66 of the Commission's rules. The proposed action is authorized pursuant to sections 1, 4(i), 4(j), 303(r), 338, 340, 614, and 615 of the Communications Act of 1934, as amended (Act), 47 U.S.C. 151, 154(i), 154(j), 303(r), 338, 340, 534, and 535. The types of small entities that may be affected by the proposals contained in the NPRM fall within the following categories: Cable Companies and Systems (Rate Regulation Standard); Cable System Operators (Telecommunications Act Standard); Direct Broadcast Satellite (DBS) Service; and Television Broadcasting. The NPRM proposes to revise existing reporting, recordkeeping, or other compliance requirements by modernizing certain notification requirements for cable operators and DBS providers to require the use of email rather than paper delivery. There is no overlap with other regulations or laws. The NPRM seeks comment on other alternative means of delivering the notices that would better serve the needs of broadcasters and MVPDs, including small entities, but still be less burdensome than sending the notices by paper delivery.

15. Initial Paperwork Reduction Act Analysis. This document may result in new or revised information collection requirements subject to the Paperwork Reduction Act of 1995, Public Law 104-13 (44 U.S.C. 3501 through 3520). If the Commission adopts any new or revised information collection requirement, the Commission will publish a notice in the Federal Register inviting the public to comment on the requirement, as required by the Paperwork Reduction Act of 1995, Public Law 104-13 (44 U.S.C. 3501-3520). In addition, pursuant to the Small Business Paperwork Relief Act of 2002, Public Law 107-198, see 44 U.S.C. 3506(c)(4), the Commission seeks specific comment on how it might “further reduce the information collection burden for small business concerns with fewer than 25 employees.”

16. Ex Parte Rules—Permit-But-Disclose. The proceeding this Notice initiates shall be treated as a “permit-but-disclose” proceeding in accordance with the Commission's ex parte rules, 47 CFR 1.1200 et seq. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with rule 1.1206(b). In proceedings governed by rule 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

17. The proposed action is authorized pursuant to sections 1, 4(i), 4(j), 303(r), 338, 340, 614, and 615 of the Communications Act of 1934, as amended (Act), 47 U.S.C. 151, 154(i), 154(j), 303(r), 338, 340, 534, and 535.

List of Subjects

47 CFR Part 74

Communications equipment, Education, Radio, Reporting and recordkeeping requirements, Research, Television.

47 CFR Part 76

Administrative practice and procedure, Cable television, Equal employment opportunity, Political candidates, Reporting and recordkeeping requirements.

Federal Communications Commission.
Marlene Dortch,
Secretary.

Proposed Rules

For the reasons discussed in the preamble, the Federal Communications Commission proposes to amend 47 CFR parts 74 and 76 as follows:

PART 74—EXPERIMENTAL RADIO, AUXILIARY, SPECIAL BROADCAST AND OTHER PROGRAM DISTRIBUTIONAL SERVICES

1. The authority for part 74 continues to read as follows:

Authority: 47 U.S.C. 154, 302a, 303, 307, 309, 310, 336, and 554.

2. Add § 74.779 to read as follows:

§ 74.779 Electronic Delivery of Notices to LPTV stations.

Beginning July 31, 2020, each licensee of a low power television station or translator station that is entitled to receive notices pursuant to section 76.64(k), 76.1601, 76.1607, or 76.1617 of this title shall post publicly on the main page of station's website an email address for electronic receipt of such notices by the station. This section does not apply to Class A television stations.

3. Transfer § 74.799 from subpart H to subpart G.

PART 76—MULTICHANNEL VIDEO AND CABLE TELEVISION SERVICE

4. The authority for part 76 continues to read as follows:

Authority: 47 U.S.C. 151, 152, 153, 154, 301, 302, 302a, 303, 303a, 307, 308, 309, 312, 315, 317, 325, 338, 339, 340, 341, 503, 521, 522, 531, 532, 534, 535, 536, 537, 543, 544, 544a, 545, 548, 549, 552, 554, 556, 558, 560, 561, 571, 572, 573.

5. Amend § 76.54 by revising the last sentence of paragraph (e) to read as follows:

§ 76.54 Significantly viewed signals; method to be followed for special showings.

* * * * *

(e) * * * Such written notice must be delivered to stations electronically in accordance with section 76.66(d)(2)(ii) of this subpart D.

* * * * *

6. Amend § 76.64 by revising the second sentence of paragraph (k) to read as follows:

§ 76.64 Retransmission consent.

* * * * *

(k) * * * The cable operator must send such notification by electronic delivery, in accordance with § 76.1600, at least 60 days prior to commencing cable service. * * *

* * * * *

7. Amend § 76.66 by:

a. Revising paragraph (d)(1)(iv) introductory text;

b. Adding a second sentence to paragraphs (d)(2)(ii), (v), (vi), (d)(3)(iv), (d)(5)(i), (f)(3);

c. Adding a sentence at the end of paragraph (f)(4); and

d. Adding a second sentence to paragraph (h)(5).

The additions and revision read as follows:

§ 76.66 Satellite broadcast signal carriage.

* * * * *

(d) * * *

(1) * * *

(iv) Within 30 days of receiving a television station's carriage request, a satellite carrier shall notify in writing electronically in accordance with paragraph (d)(2)(ii) of this section:

* * * * *

(2) * * *

(ii) * * * The written notices required by paragraphs (d)(1)(iv), (d)(2)(v), (d)(2)(vi), (d)(3)(iv), (d)(5)(i), (f)(3), (f)(4), and (h)(5) of this section shall be delivered electronically via email to the email address for carriage-related questions that the station lists in its public file in accordance with §§ 73.3626 and 73.3527 of part 73 of this title.

* * * * *

(v) * * * The written notices required by this paragraph shall be delivered to stations electronically in accordance with paragraph (d)(2)(ii) of this section.

(vi) * * * The written notices required by this paragraph shall be delivered to stations electronically in accordance with paragraph (d)(2)(ii) of this section.

* * * * *

(3) * * *

(iv) * * * The written notices required by this paragraph shall be delivered to stations electronically in accordance with paragraph (d)(2)(ii) of this section.

(5) * * *

(i) * * * The written notices required by this paragraph shall be delivered to stations electronically in accordance with paragraph (d)(2)(ii) of this section.

* * * * *

(f) * * *

(3) * * * The written notices required by this paragraph shall be delivered to stations electronically in accordance with paragraph (d)(2)(ii) of this section.

(4) * * * The written notices required by this paragraph shall be delivered to stations electronically in accordance with paragraph (d)(2)(ii) of this section.

* * * * *

(h) * * *

(5) * * * The required notice to the affected television station shall be delivered to the station electronically in accordance with paragraph (d)(2)(ii) of this section.

* * * * *

8. Amend § 76.1600 by adding paragraph (e) to read as follows:

§ 76.1600 Electronic delivery of notices.

* * * * *

(e) Written information provided by cable operators to broadcast stations pursuant to §§ 76.64(k), 76.1601, 76.1607, 76.1608, 76.1609, and 76.1617 of this Part 76 must be delivered electronically to a station via email to the email address for carriage-related questions that the television broadcast station lists in its public file in accordance with §§ 73.3626 and 73.3527 of Part 73 of this title, or in the case of low power television stations or translator stations, to the email address that the station posts on its website in accordance with § 74.779 of Part 74 of this title.

9. Revise § 76.1607 to read as follows:

§ 76.1607 Principal headend.

A cable operator shall provide written notice by electronic delivery, in accordance with § 76.1600, to all stations carried on its system pursuant to the must-carry rules at least 60 days prior to any change in the designation of its principal headend.

10. Revise § 76.1609 to read as follows:

§ 76.1609 Non-duplication and syndicated exclusivity.

Within 60 days following the provision of service to 1,000 subscribers, the operator of each such system shall file a notice to that effect with the Commission, and provide a copy of that notice, by electronic delivery in accordance with § 76.1600, to every television station that would be entitled to exercise network non-duplication protection or syndicated exclusivity protection against the operator.

11. Amend § 76.1617 by revising paragraphs (a) and (c) to read as follows:

§ 76.1617 Initial must-carry notice.

(a) Within 60 days of activation of a cable system, a cable operator must notify all qualified NCE stations of its designated principal headend by electronic delivery in accordance with § 76.1600.

* * * * *

(c) Within 60 days of activation of a cable system, a cable operator must send, by electronic delivery in accordance with § 76.1600, a copy of a list of all broadcast television stations carried by its system and their channel positions to all local commercial and noncommercial television stations, including those not designated as must-carry stations and those not carried on the system.

[FR Doc. 2019-16338 Filed 8-2-19; 8:45 am]

BILLING CODE 6712-01-P